DEPARTMENT OF THE INTERIOR

Bureau of Land Management

[BLM_NM_FRN_MO4500177326]

Notice of Availability for the Organ Mountains-Desert Peaks National Monument Draft Environmental Impact Statement and Resource Management Plan

Correction

In notice document 2024-07106 beginning on page 24030 in the issue of Friday, April 5, 2024, make the following correction:

On page 24030, in the third column, in the 15th line, “June 4, 2024” should read “July 5, 2024”.

[FR Doc. C1-2024-07106 Filed 4-17-24; 8:45 am]

BILLING CODE 0099-10-P